DEPARTMENT OF THE INTERIOR

Fish and Wildlife Service

Information Collection Renewal Sent to the Office of Management and Budget (OMB) for Approval Under the Paperwork Reduction Act; OMB Control No. 1018-0100; Information Collection in Support of Grant Programs Authorized by the North American Wetlands Conservation Act (NAWCA)

AGENCY: Fish and Wildlife Service, Interior.

ACTION: Notice; request for comments.

SUMMARY: We (Fish and Wildlife Service, Service) have sent a request to OMB to renew the collection of information described below. We use the information collected to conduct our NAWCA grant programs in the manner prescribed by that Act, the Migratory Bird Conservation Commission, and the North American Wetlands Conservation Council. We also use the information to comply with Federal reporting requirements for grants awarded under the program.

DATES: You must submit comments on or before September 26, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related materials, contact Hope Grey at the addresses above or by phone at (703) 358-2482. For information related to the grant program, which is the subject of the information collection approval, please visit our Web site at http://birdhabitat.fws.gov.

SUPPLEMENTARY INFORMATION: The OMB regulations at 5 CFR 1320, which implement provisions of the Paperwork Reduction Act of 1995 (44 U.S.C 3501 et seq.), require that interested members of the public and affected agencies have an opportunity to comment on information collection and recordkeeping activities (see 5 CFR 1320.8(d)). We have asked OMB to renew approval of the collection of information for the NAWCA grants programs. The current OMB control number for this collection of information is 1018-0100, which expires on August 31, 2005. We are requesting the standard 3-year term of approval for this information collection activity. Federal agencies may not conduct or sponsor and a person is not required to respond to a collection of information unless it displays a currently valid OMB control number. Following our submittal, OMB has up to 60 days to approve or disapprove our information collection request; however, OMB may make its decision as early as 30 days after submittal of our request. Therefore, to ensure that your comments receive consideration, send your comments and/or suggestions to OMB by the date referenced in the DATES section of this notice.

We received one comment regarding this notice. The commenter did not address the necessity, clarity, or accuracy of the information collection, but stated that the North American Waterfowl Management Plan and the Council, as constituted, are used to kill waterfowl, not save them. In addition, the commenter petitions to reconstitute the Council with different members and requests program materials. We have not made any changes to our information collection as a result of the comment.

The North American Waterfowl Management Plan (NAWMP), first signed in 1986, is a tripartite agreement among Canada, Mexico, and the United States to enhance, restore, and otherwise protect continental wetlands to benefit waterfowl and other wetlands-associated wildlife through partnerships between and among the private and public sectors. Because the 1986 NAWMP did not carry with it a mechanism to provide for broadly based and sustained financial support for wetland conservation activities, Congress passed and the President signed into law the NAWCA. The purpose of NAWCA, as amended, is to promote, through partnerships, long-term conservation of North American wetland ecosystems and the waterfowl and other migratory birds, fish, and wildlife that depend upon such habitat. Principal conservation actions supported by NAWCA are acquisition, enhancement, and restoration of wetlands and wetlands-associated habitat.

In addition to providing for a continuing and stable funding base, NAWCA establishes an administrative body, the North American Wetlands Conservation Council, made up of a State representative from each of the four flyways, three representatives from wetlands conservation organizations, the Secretary of the Board of the National Fish and Wildlife Foundation, and the Director of the Service. The Council recommends funding of select wetlands conservation project proposals to the Migratory Bird Conservation Commission (MBCC). Competing for grant funds involves applications from partnerships that describe in substantial detail project locations, project resources, future benefits, and other characteristics, to meet the standards established by the Council and the requirements of NAWCA.

Materials that describe the program and assist applicants in formulating project proposals for Council consideration are available on our Web site at http://birdhabitat.fws.gov. Persons who do not have access to the Web site may still obtain instructional materials by mail. There has been virtually no change in the scope and general nature of these instructions since the OMB first approved the information collection in 1999. Instructions assist applicants in formulating detailed project proposals for Council consideration. The instructional materials, including any hard or electronic copy and information or other instruments, are the basis for this information collection request. Notices of funding availability, which are updated regularly, are posted on the Grants.gov Web site (http://www.grants.gov) as well as in the Catalog of Federal Domestic Assistance. We use information collected under this program to respond to audits, program planning and management, program evaluation, Government Performance and Results Act reporting, Standard Form 424 (Application For Federal Assistance), grant agreements, budget reports and justifications, public and private requests for information, data provided to other programs for databases on similar programs, congressional inquiries, and reports required by NAWCA.

If we do not collect this information, we would have to eliminate the program because it would not be possible to determine eligibility and the relative worth of the proposed projects or to meet our legal responsibilities under the Act and regulations. Reducing the frequency of collection would only reduce the frequency of grant opportunities, as the information collected is unique to each project proposal. Discontinuation of the program is not a viable option.

Title of Collection: Information Collection in Support of Grant Programs Authorized by the North American Wetlands Conservation Act (NAWCA).

OMB Control Number: 1018-0100.

Form Number(s): None.

Frequency of Collection: Occasional. The Small Grants program has one project proposal period per year and the Standard Grants program has two per year. Annual reports are due 90 days after the anniversary date of the grant agreement. Final reports are due 90 days after the end of the project period. The project period is 2 years.

Description of Respondents: Households and/or individuals; businesses and/or other for-profits organizations; educational organizations; not-for-profit institutions; Federal Government; and State, local and/or tribal governments.

Total Annual Burden Hours: 37,600. We estimate 80 hours for each Small Grant and 400 hours for each Standard Grant.

Number of Respondents: Approximately 150. We estimate 70 proposals for the Small Grants program and 80 for the Standard Grants program. Approximately half of the projects submitted are funded.

We interviewed five previous and current recipients of NAWCA grants with regard to three aspects of the grants programs: the availability of the information requested, the clarity of the instructions, and the annual burden hours for preparing applications and other materials, such as annual and final reports for both the Small Grants and the Standard Grants programs. All respondents advised that the information regarding descriptions of both programs and application instructions are readily available and the clarity of the information/instructions for both programs is good, even considering the level of detail and technical information required in the Standard Grants program application.

We invite your comments on: (1) Whether or not the collection of information is necessary for the proper performance of the NAWCA grants programs, including whether or not in the opinion of the respondent the information has practical utility; (2) the accuracy of our estimate of the annual hour burden of information requested; (3) ways to enhance the quality, utility and clarity of the information to be collected; and (4) ways to minimize the burden of the collection of information on respondents. The information collection in this program is part of a system of records covered by the Privacy Act (5 U.S.C. 552(a)).

Dated: August 3, 2005.
Hope Grey,
Information Collection Clearance Officer, Fish and Wildlife Service.

[FR Doc. 05-16942 Filed 8-24-05; 8:45 am]

BILLING CODE 4310-55-P